DEPARTMENT OF COMMERCE

Census Bureau

Agency Information Collection Activities; Submission to the Office of Management and Budget (OMB) for Review and Approval; Comment Request; Household Pulse Survey

On March 18, 2021, the Department of Commerce received clearance from the Office of Management and Budget (OMB) in accordance with the Paperwork Reduction Act of 1995 to conduct Phase 3.1 of the Household Pulse Survey (OMB No. 0607-1013, Exp. 10/31/23). The Household Pulse Survey was designed to meet a need for timely information associated with household experiences during the Covid-19 pandemic.

The Department is committed to ensuring that the data collected by the Household Pulse Survey continue to meet information needs as they may evolve over the course of the pandemic. This notice serves to inform of the Department's intent to submit an emergency clearance request to OMB to make some revisions to the Household Pulse Survey questionnaire. To ensure public burden is not increased, the revisions would reflect the removal of questions for which utility has declined over time, and the addition of topics based on public comment previously received and in consult with other Federal agencies. Removals include questions on Unemployment Insurance applications; Social Security Administration program receipt and application; Reasons for changed spending; Ride sharing/transit use; trips over 100 miles; Spending on groceries and prepared foods; Delayed and Forgone medical care; Child care; and K-12 computer use and internet access. Additionally, post-secondary education items will be held until closer to the fall terms. New questions focus on the Child Tax Credit; sexual orientation and gender identity (SOGI); rent/mortgage arrears; utility arrears and restrictions; summer catchup education activities for K-12; preventive health care for children; and application for Medicaid or exchange coverage. It is the Department's intention to commence data collection using the revised instrument on or about July 21, 2021. The Department invites the general public and other Federal agencies to comment on proposed, and continuing information collections, which helps us assess the impact of our information collection requirements and minimize the public's reporting burden. Public comments were previously sought on the Household Pulse Survey via the Federal Register on May 19, 2020, June 3, 2020, February 1, 2021, and again on April 13, 2021. This notice allows for an additional 30 days for public comments on the proposed revisions.

Agency: U.S. Census Bureau, Commerce.

Title: Household Pulse Survey.

OMB Control Number: 0607-1013.

Form Number(s): None.

Type of Request: Emergency Clearance Request.

Number of Respondents: 3,150,000

Average Hours per Response: 20 minutes.

Burden Hours: 1,039,500.

Needs and Uses: Data produced by the Household Pulse Survey are designed to inform on a range of topics related to households' experiences during the Covid-19 pandemic. Topics to date have included employment, facility to telework, travel patterns, income loss, spending patterns, food and housing security, access to benefits, mental health and access to care, intent to receive the COVID-19 vaccine, and educational disruption (K-12 and post-secondary). The requested revision, if approved by OMB, will remove selected items from the questions for which utility has declined and add questions based on information needs expressed via public comment and in consult with other Federal agencies. The overall burden to the public will remain unchanged.

The Household Pulse Survey was initially launched in April, 2020 as an experimental project (see https://www.census.gov/data/experimental-data-products.html) under emergency clearance from the Office of Management and Budget (OMB) initially granted April 19, 2020; regular clearance was subsequently sought and approved by OMB on October 30, 2020 (OMB No. 0607-1013; Exp. 10/30/2023).

Affected Public: Households.

Frequency: Households will be selected once to participate in a 20-minute survey.

Respondent's Obligation: Voluntary.

Legal Authority: Title 13, United States Code, Sections 8(b), 182 and 196.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1013.

Sheleen Dumas,
Department PRA Clearance Officer, Office of the Chief Information Officer, Commerce Department.

[FR Doc. 2021-13454 Filed 6-23-21; 8:45 am]

BILLING CODE 3510-07-P